DEPARTMENT OF TRANSPORTATION

Federal Aviation Administration

14 CFR Part 39

[Docket No. FAA-2016-5035; Directorate Identifier 2015-NM-042-AD]

RIN 2120-AA64

Airworthiness Directives; Fokker Services B.V. Airplanes

AGENCY: Federal Aviation Administration (FAA), DOT.

ACTION: Notice of proposed rulemaking (NPRM).

SUMMARY: We propose to adopt a new airworthiness directive (AD) for all Fokker Services B.V. Model F.28 Mark 0070 and Mark 0100 airplanes. This proposed AD was prompted by reports of cracking in a certain area of the pressure bulkhead webplate and skin connection angle. This proposed AD would require a one-time inspection of the affected pressure bulkhead webplate and skin connection angle, and corrective actions if necessary. We are proposing this AD to detect and correct cracking of the pressure bulkhead webplate and skin connection angle that could lead to sudden inflight decompression of the airplane resulting in injury to occupants.

DATES: We must receive comments on this proposed AD by May 13, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5035; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1139.

SUPPLEMENTARY INFORMATION:

Comments Invited

We invite you to send any written relevant data, views, or arguments about this proposed AD. Send your comments to an address listed under the ADDRESSES section. Include “Docket No. FAA-2016-5035; Directorate Identifier 2015-NM-042-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2015-0024, dated February 19, 2015 (referred to after this as the Mandatory Continuing Airworthiness Information, or “the MCAI”), to correct an unsafe condition for all Fokker Services B.V. Model F.28 Mark 0070 and Mark 0100 series airplanes. The MCAI states:

Service experience with the Fokker 100 type design has shown that cracking can occur in the pressure bulkhead webplate and skin connection angle on the right hand (RH) side at station 14911 (station 12447 for F28 Mark 0070) at stringer 67 of fuselage section 2, before reaching the existing threshold for inspection per ALS [Airworthiness Limitations Section] task 533016-00-03 (F28 Mark 0100) or task 533016-01-03 (F28 Mark 0070). Any cracks in this area are not visible from the outside (covered by fairing) until they reach a critical length.

This condition, if not detected and corrected, could lead to sudden in-flight decompression of the aeroplane, possibly resulting in injury to occupants.

To address this potential unsafe condition, Fokker Services published Service Bulletin (SB) SBF100-53-128, which provides inspection instructions to detect any crack in the affected area.

For the reasons described above, this [EASA] AD requires a one-time inspection of the affected pressure bulkhead webplate and skin connection angle, and, depending on findings, accomplishment of applicable corrective action(s).

This AD is considered to be an interim action and further AD action may follow, possibly to lower the current ALS task threshold, if justified by the inspection results.

Corrective actions include repair of cracking in the skin connection angle and pressure bulkhead webplate, as applicable.

You may examine the MCAI in the AD docket on the Internet at http://www.regulations.gov by searching for and locating Docket No. FAA-2016-5035.

Related Service Information Under 1 CFR Part 51

Fokker Services B.V. has issued Fokker Service Bulletin SBF100-53-128, dated November 12, 2014; and Fokker Service Bulletin SBF100-53-129, dated February 16, 2015. The service information describes procedures for inspection of the affected pressure bulkhead webplate and skin connection angle, and corrective actions if necessary. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI and Service Information

Although the MCAI and service information allow further flight after cracks are found during compliance with the proposed actions, paragraph (g)(2) of this proposed AD requires that you repair the crack before further flight.

Costs of Compliance

We estimate that this proposed AD affects 8 airplanes of U.S. registry.

We also estimate that it would take about 1 work-hour per product to comply with the basic requirements of this proposed AD, and 1 work-hour per product for reporting. The average labor rate is $85 per work-hour. Required parts would cost about $0 per product. Based on these figures, we estimate the cost of this proposed AD on U.S. operators to be $1,360, or $170 per product.

In addition, we estimate that any necessary follow-on actions would take about 46 work-hours and require parts costing $2,000, for a cost of $5,910 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fokker Services B.V.: Docket No. FAA-2016-5035; Directorate Identifier 2015-NM-042-AD.

(a) Comments Due Date

We must receive comments by May 13, 2016.

(b) Affected ADs

None.

(c) Applicability

This AD applies to Fokker Services B.V. Model F.28 Mark 0070 and F.28 Mark 0100 airplanes, all serial numbers, certificated in any category.

(d) Subject

Air Transport Association (ATA) of America Code 53, Fuselage.

(e) Reason

This AD was prompted by reports of cracking in the pressure bulkhead webplate and skin connection angle on the right-hand (RH) side at station 14911 (for Model F.28 Mark 0100 airplanes) or station 12447 (for Model F.28 Mark 0070 airplanes) at stringer 67 of fuselage section 2. We are issuing this AD to detect and correct cracking of the pressure bulkhead webplate and skin connection angle that could lead to sudden inflight decompression of the airplane resulting in injury to occupants.

(f) Compliance

Comply with this AD within the compliance times specified, unless already done.

(g) Inspection

At the time specified in paragraph (h) of this AD: Do a detailed inspection of the pressure bulkhead webplate and skin connection angle on the RH side at station 14911 (for Model F28 Mark 0100 airplanes) or station 12447 (for Model F28 Mark 0070 airplanes) at stringer 67 of fuselage section 2, as applicable, in accordance with the Accomplishment Instructions of Fokker Service Bulletin SBF100-53-128, dated November 12, 2014. This AD does not require action for airplanes which, as of the effective date of this AD, have accumulated less than 30,000 flight cycles.

(1) If any crack is found in the skin connection angle, before further flight, repair the skin connection angle, in accordance with the Accomplishment Instructions of Fokker Service Bulletin SBF100-53-129, dated February 16, 2015.

(2) If any crack is found in the pressure bulkhead webplate, before further flight, repair the pressure bulkhead webplate, in accordance with the Accomplishment Instructions of Fokker Service Bulletin SBF100-53-129, dated February 16, 2015.

(h) Compliance Times

At the applicable time specified in (h)(1) or (h)(2) of this AD, do the actions required by paragraph (g) of this AD.

(1) For airplanes that have accumulated less than 40,000 total flight cycles as of the effective date of this AD, do the actions in paragraph (g) within 2,000 flight cycles after the effective date of this AD.

(2) For airplanes that have accumulated 40,000 or more total flight cycles as of the effective date of this AD, do the actions in paragraph (g) within 750 flight cycles after the effective date of this AD.

(i) Reporting

Submit a report of the findings (both positive and negative) of the inspection required by paragraph (g) of this AD to Fokker Services B.V. Engineering, Quality Department P.O. Box 1357, 2130 EL Hoofddorp, the Netherlands; telephone +31 (0)88-6280-350; fax +31 (0)88-6280-111; email technicalservices@fokker.com; Internet http://www.myfokkerfleet.com in accordance with the Accomplishment Instructions of Fokker Service Bulletin SBF100-53-128, dated November 12, 2014, at the applicable time specified in paragraph (i)(1) or (i)(2) of this AD. The report must include the inspection results; the airplane serial number; the total number of flight cycles and flight hours on the airplane; a sketch or photo to show the location of the crack(s) and damaged part(s), if applicable; and the length of each crack, if applicable.

(1) If the inspection was done on or after the effective date of this AD: Submit the report within 30 days after the inspection.

(2) If the inspection was done before the effective date of this AD: Submit the report within 30 days after the effective date of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Fokker B.V. Service's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

(1) Refer to Mandatory Continuing Airworthiness Information (MCAI) European Aviation Safety Agency (EASA) Airworthiness Directive 2015-0024, dated February 19, 2015, for related information. This MCAI may be found in the AD docket on the Internet at http://www.regulations.gov by searching for and locating Docket No. FAA-2016-5035.

(2) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may view this service information at the FAA, Transport Airplane Directorate, 1601 Lind Avenue SW., Renton, WA. For information on the availability of this material at the FAA, call 425-227-1221.

Issued in Renton, Washington, on March 20, 2016.
Michael Kaszycki,
Acting Manager Transport Airplane Directorate, Aircraft Certification Service.

[FR Doc. 2016-07022 Filed 3-28-16; 8:45 am]

BILLING CODE 4910-13-P